DEPARTMENT OF TRANSPORTATION

Federal Aviation Administration

Third Meeting: RTCA Special Committee 232, Airborne Selective Calling Equipment

AGENCY: Federal Aviation Administration (FAA), Department of Transportation (DOT).

ACTION: Meeting Notice of RTCA Special Committee 232, Airborne Selective Calling Equipment.

SUMMARY: The FAA is issuing this notice to advise the public of the third meeting of RTCA Special Committee 232, Airborne Selective Calling Equipment.

DATES: The meeting will be held March 4-5, 2015 from 9:00 a.m.-5:00 p.m.

ADDRESSES: The meeting will be held at Novotel Paris Orly Rungis Hotel Rungis, France. Hosted by Rabah Bouda.

FOR FURTHER INFORMATION CONTACT: You may contact the RTCA Secretariat, 1150 18th Street NW., Suite 910, Washington, DC 20036, or by telephone at (202) 833-9339, fax at (202) 833-9434, or Web site http://www.rtca.org for directions.

SUPPLEMENTARY INFORMATION: Pursuant to section 10(a)(2) of the Federal Advisory Committee Act (Pub. L. 92-463, 5 U.S.C., App.), notice is hereby given for a meeting of Special Committee 232.

March 4-5

• Welcome/Introductions/Administrative Remarks

• Agenda Overview

• Review/Approval of Minutes from Plenary #2

• Status of Other SELCAL Industry Activities/Committees

• Review of Selective Calling (SELCAL) Action Items

• Review SC-232 Completion Schedule

• Review of Draft MOPS

• Continue Drafting MOPS

• Other Business.

• Date and Place of Next Meetings

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 10, 2015.
Mohannad Dawoud,
Management Analyst, NextGen, Program Oversight and Administration, Federal Aviation Administration.

[FR Doc. 2015-03055 Filed 2-12-15; 8:45 am]

BILLING CODE 4910-13-P